DEPARTMENT OF DEFENSE

Department of the Army, Corps of Engineers

Intent To Hold Public Meetings To Solicit Citizen Input Into Cumulative Effects Assessment of Navigation Investment Strategies Along the Ohio River Main Stem

AGENCY: U.S. Army Corps of Engineers, DoD.

ACTION: Notice of public meetings.

SUMMARY: The Corps of Engineers will conduct public scoping meetings at six locations along the main stem of the Ohio River to solicit input for a Cumulative Effects Analysis (CEA). This document will be a major component of the Ohio River Main Stem Systems Study's Programmatic Environmental Impact Statement (PEIS) described in the “Notice Of Intent to Prepare an EIS” published in the Federal Register on October 21, 1998, and amended in the Federal Register on June 9, 2000. Representatives of the Corps of Engineers will provide an oversight presentation on the study,the EIS process, and cumulative effects assessment. The public will then be invited to provide comments or ask questions relevant to the study.

FOR FURTHER INFORMATION CONTACT: Questions or comments regarding this Notice and the CEA can be answered by Ms. Veronica Rife, U.S. Army Corps of Engineers, P.O. Box 59, Louisville, Kentucky, 40201-0059, Telephone: (502) 315-6785, email: celrl-ormss@usace.army.mil.

SUPPLEMENTARY INFORMATION: The Great Lakes & Ohio River Division of the U.S. Army Corps of Engineers is evaluating alternative investment strategies for commercial navigation infrastructure on the Ohio River System for the next 60 years. The study is being conducted under the authority of the United States Senate, Committee on Public Works resolution dated May 16, 1955; and the United States House of Representatives, Committee on Public Works and Transportation resolution dated March 11, 1982. The Corps of Engineers is preparing a Programmatic Environmental Impact Statement (PEIS) including a Cumulative Effects Analysis (CEA) appendix concurrent with a System Investment Plan (SIP) as primary products of the study. The SIP will identify where and approximately when site-specific navigation infrastructure improvements should be made along the Ohio River and will be used by the Corps of Engineers for future planning and budgeting purposes. The SIP will not recommend any specific projects for Congressional authorization. A PEIS will be prepared concurrent with the SIP to assess the system-wide environmental effects of any and all projected infrastructure improvements. A major component of the PEIS is the CEA that will focus on evaluating the cumulative impacts to certain environmental resources in and along the mainstem of the Ohio River.

The Corps of Engineers published two previous Notices of Intent (NOI) to Prepare NEPA documents for this study. The first Notice, “Notice of Intent to Prepare an Environmental Impact Statement for the Ohio River Main Stem Systems Study,” was published in Federal Register, volume 63, number 203 page 56165 on Wednesday, October 21, 1998. In that Notice, the Corps stated its intention to prepare one or more EISs for the study and it's intention to produce an interim report with a feasibility-level EIS for Greenup Locks & Dam, near Greenup, Kentucky, and John T. Myers Locks & Dam, near Mount Vernon, Indiana. The interim report and feasibility-level EIS were completed in 2000. The Corps of Engineers published a second Notice, “Notice of Intent to Prepare an Environmental Assessment for Proposed Authorization of an Ohio River Ecosystem Restoration Program,” in the Federal Register, volume 65, number 112 page 36674 on Friday, June 9, 2000. The Corps of Engineers subsequently produced an Integrated Decision Document and Environmental Assessment recommending authorization of an Ohio River Ecosystem Restoration Program. Greenup and J.T. Myers Locks Improvement Projects, and the Ohio River Ecosystem Restoration Program were authorized in the Water Resources Development Act of 2000.

As part of the initial PEIS scoping process, three public scoping workshops were held in November 1998 at Evansville, IN, Hunting, WV, and Pittsburgh, PA as stated in the October 1998 NOI.

The scoping process to be followed for the remainder of the study will include: continuation of interagency environmental team meetings, a press release announcing the CEA scoping process and inviting comments, a mailing to all addressees on the ORMSS mailing list (approximately 2,500), advertisements in local newspapers, and a series of six sets of meetings (one set in each state) along the Ohio River. Each set of meetings will consist of a daytime meeting with governmental agencies and an evening meeting open to the public. This process emphasizes the Corps' desire for participation by all interested parties.

The primary issue to be analyzed in depth in the PEIS will be cumulative effects of SIP recommendations in the context of past, present, and reasonably foreseeable future actions by the Corps of Engineers and others in and along the Ohio River. The impacts analysis will include biological resources, cultural resources and socioeconomic effects, air quality, noise impacts, and recreational resources.

Meetings are scheduled as follows:

Date: July 10, 2001.

Time: 5 p.m.-7 p.m.

Place: Banterra Bank—Large Conference Room, 101 West Eighth St., Metropolis, IL 62960.

Date: July 12, 2001.

Time: 5 p.m.-7 p.m.

Place: Victory Theatre—5th Floor Banquet Room, 600 Main St., Evansville, IN 47708.

Date: July 31, 2001.

Time: 5 p.m.-7 p.m.

Place: Mid-Ohio Valley Regional Council—Large Conference Room, 531 Market St., Parkersburg, WV 26101.

Date: August 1, 2001.

Time: 5 p.m.-7 p.m.

Place: Community College of Beaver Co.—Library Resource Center, Conference Room 103 (Near Parking Lot 2), 1 Campus Dr., Monaca, PA 15061.

Date: August 6, 2001.

Time: 5 p.m.-7 p.m.

Place: Kenton Co. Public Library—Large Meeting Room, 505 Scott Blvd., Covington, KY 41011.

Date: August 7, 2001.

Time: 5 p.m.-7 p.m.

Place: Shawnee State University—University Center, 940 Second St., Portsmouth, OH 45662.

Interested parties will be encouraged to provide oral comments relevant to issues to be addressed in the CEA or Programmatic EIS at any of these public forums. Otherwise, the Corps of Engineers requests written comments or requests for information be directed to the following study contact: Ms. Veronica Rife, Project Manager, Ohio River Mainstem Systems Study, P.O. Box 59, Louisville, KY 40201-0059, 502-315-6785, Email: celrl-ormss@usace.army.mil.

All comments should be received by the Corps of Engineers by August 31, 2001.

Dated: June 19, 2001.
Paul D. Robinson,
Director of Civil Works and Management.

[FR Doc. 01-16130 Filed 6-25-01; 8:45 am]

BILLING CODE 3710-GM-M